DEPARTMENT OF COMMERCE

International Trade Administration

Environmental Technologies Trade Advisory Committee

AGENCY: International Trade Administration, U.S. Department of Commerce.

ACTION: Notice of an open meeting of a Federal Advisory Committee.

SUMMARY: This notice sets forth the schedule and proposed topics for a meeting of the Environmental Technologies Trade Advisory Committee (ETTAC).

DATES: The meeting is scheduled for Tuesday, May 17, 2022 from 10:00 a.m. to 1:00 p.m. Eastern Daylight Time (EDT). The deadline for members of the public to register to participate, including requests to make comments during the meeting and for auxiliary aids, or to submit written comments for dissemination prior to the meeting, is 5:00 p.m. EDT on Tuesday, May 10, 2022.

ADDRESSES: The meeting will be held virtually via Webex. Requests to register to participate (including to speak or for auxiliary aids) and any written comments should be submitted via email to Ms. Victoria Yue, Office of Energy & Environmental Industries, International Trade Administration, at victoria.yue@trade.gov.

FOR FURTHER INFORMATION CONTACT: Ms. Victoria Yue, Office of Energy & Environmental Industries, International Trade Administration (Phone: 202-482-3492; email: Victoria.yue@trade.gov).

SUPPLEMENTARY INFORMATION: The meeting will take place on Tuesday, May 17, 2022 from 10:00 a.m. to 1:00 p.m. EDT. The general meeting is open to the public and time will be permitted for public comment. Members of the public seeking to attend the meeting are required to register in advance. Those interested in attending must provide notification by Tuesday, May 10, 2022, at 5:00 p.m. EDT, via the contact information provided above. This meeting is physically accessible to people with disabilities. Requests for sign language interpretation or other auxiliary aids should be directed to Victoria Yue at victoria.yue@trade.gov or (202) 482-3492 no less than one week prior to the meeting. Requests received after this date will be accepted, but it may not be possible to accommodate them.

Written comments concerning ETTAC affairs are welcome any time before or after the meeting. To be considered during the meeting, written comments must be received by Tuesday, May 10, 2022, at 5:00 p.m. EDT to ensure transmission to the members before the meeting. Minutes will be available within 90 days of this meeting.

Topics to be considered: During the May 17 meeting, which will be the sixth meeting of the current charter term, the Committee will review draft recommendations and conduct subcommittee breakouts under the themes of Trade Policy and Export Competitiveness, Climate Change Mitigation and Resilience Technologies, and Waste Management and Circular Economy. An agenda will be made available one week prior to the meeting upon request to Victoria Yue.

Background: The ETTAC is mandated by Section 2313(c) of the Export Enhancement Act of 1988, as amended, 15 U.S.C. 4728(c), to advise the Environmental Trade Working Group of the Trade Promotion Coordinating Committee, through the Secretary of Commerce, on the development and administration of programs to expand U.S. exports of environmental technologies, goods, services, and products. The ETTAC was most recently re-chartered through August 15, 2022.

Dated: April 28, 2022.
Man K. Cho,
Deputy Director, Office of Energy and Environmental Industries.

[FR Doc. 2022-09469 Filed 5-2-22; 8:45 am]

BILLING CODE 3510-DR-P